POSTAL SERVICE

39 CFR Part 20

International Product and Price Changes

AGENCY: Postal Service.™

ACTION: Final rule.

SUMMARY: The Postal Service is revising Mailing Standards of the United States Postal Service, International Mail Manual (IMM®), to reflect changes to the prices and product features for the following Shipping Services: Global Express Guaranteed® (GXG®); Express Mail International®; Priority Mail International®; Direct Sacks of Printed Matter to One Addressee (Airmail M-bags). We are implementing this international price change concurrent with our domestic shipping services price change. The total international price increase is approximately 8.5 percent.

DATES: Effective Date: January 18, 2009.

FOR FURTHER INFORMATION CONTACT: Obataiye B. Akinwole at 703-292-5260, Janet Mitchell at 202-268-7522, or, Larry Richardson at 202-268-5315.

SUPPLEMENTARY INFORMATION: On November 12, 2008, the Governors of the Postal Service established new prices and product features for Shipping Services. This Federal Register final rule describes the international price and product changes and the mailing standards needed to implement them.

The number of country price groups for Express Mail International and Priority Mail International is expanded from 9 price groups to 10 price groups. The new country price group 10 is established for items sent to Australia and New Zealand.

Priority Mail International service is expanded by adding a new small flat-rate box. The small flat-rate box follows the mailing standards for the Priority Mail International flat-rate envelope, not the Priority Mail International regular or large flat-rate box.

Commercial base pricing for Global Express Guaranteed (GXG), Express Mail International, and Priority Mail International is expanded to include qualifying end-user customers that pay postage using Information-Based Indicia (IBI) postage meters and transmit customs forms electronically. IBI is a digitally-generated indicia that includes a two-dimensional barcode.

Global Express Guaranteed

Global Express Guaranteed (GXG) service is an international expedited delivery service provided through an alliance with FedEx Express. GXG provides reliable, high-speed, date-certain service with a money-back guarantee to over 190 countries.

The price increase for retail GXG averages approximately 11.2 percent. The commercial base price for customers who prepare and pay for shipments online at usps.com or by using an authorized PC Postage vendor will remain 10 percent below the retail price. Availability of commercial base pricing is expanded to include qualifying end-user customers that pay postage using IBI postage meters and transmit customs forms electronically.

Express Mail International

Express Mail International provides reliable, high-speed service to over 190 countries with a money-back, date-certain delivery guarantee to select destinations.

The price increase for retail Express Mail International averages approximately 8.5 percent. The commercial base price for customers that prepare and pay for shipments online at usps.com or by using an authorized PC Postage vendor will remain 8 percent below the retail price. The commercial base price is expanded to include qualifying end-user customers that pay postage using IBI postage meters and transmit customs forms electronically.

The number of country price groups for Express Mail International has expanded from 9 to 10 price groups. Country price group 10 is established for items sent to Australia and New Zealand.

Priority Mail International

Priority Mail International offers economical prices for reliable delivery of documents and merchandise, usually within 6 to 10 business days.

The price increase for retail Priority Mail International averages approximately 8.5 percent. The commercial base price for customers that prepare and pay for shipments online at usps.com or by using an authorized PC Postage vendor will remain 5 percent below the retail price. The availability of this commercial base price is expanded to include qualifying end-user customers that pay postage using IBI postage meters and transmit customs forms electronically.

The number of country price groups for Priority Mail International has expanded from 9 to 10 price groups. Country price group 10 is established for items sent to Australia and New Zealand.

The new Priority Mail International small flat-rate box is available to enhance customer choice, convenience, and ease of use. The box is identified by the words “Small Flat-Rate Box” printed on the packaging. The maximum weight is 4 lbs. Pricing for the new Priority Mail International small flat-rate box is $10.95 for shipments to Canada or Mexico and $12.95 for shipments to all other countries.

Direct Sacks of Printed Matter to One Addressee (Airmail M-bags)

M-bags are direct sacks of printed matter to one addressee. Prices are based on the total weight of the contents in the bag.

The price increase for retail Airmail M-bags averages approximately 8 percent.

The Postal Service hereby adopts the following changes to Mailing Standards of the United States Postal Service, International Mail Manual (IMM), which is incorporated by reference in the Code of Federal Regulations. See 39 CFR 20.1.

List of Subjects in 39 CFR Part 20

Foreign relations, International postal services.

Accordingly, 39 CFR Part 20 is amended as follows:

PART 20—[AMENDED]

1. The authority citation for 39 CFR Part 20 continues to read as follows:

Authority: 5 U.S.C. 552(a); 39 U.S.C. 401, 404, 407, 408, 3622, 3632 and 3633.

2. Revise the following sections of Mailing Standards of the United States Postal Service, International Mail Manual (IMM), as follows:

1 International Mail Services

* * * * *

120 Preparation for Mailing

* * * * *

123 Customs Forms and Online Shipping Labels

* * * * *

123.6 Required Usage

123.61 Conditions

* * * * *

Exhibit 123.61

Customs Declaration Form Usage by Mail Category

[Revise the Priority Mail International “Comment” section of Exhibit 123.61 as follows:]

All items mailed in USPS-provided Priority Mail International packaging, except the Priority Mail flat-rate envelope or small flat-rate box, and any item bearing a Priority Mail sticker or marked with the words “Priority Mail” are considered parcels. Do not use PS Form 2976 (green label) on Priority Mail International parcels.

[Revise the Priority Mail Flat-Rate Envelope section of Exhibit 123.61 by changing the title as follows:]

Priority Mail Flat-Rate Envelope and Small Flat-Rate Box

* * * * *

[Revise the first sentence of the first footnote of Exhibit 123.61 as follows:]

1. Placement of forms: Use PS Form 2976 (green label) for the Priority Mail International flat-rate envelope or small flat-rate box, and First-Class Mail International items under $400 in value; affix the form to the address side of the package. * * *

* * * * *

123.7 Completing Customs Forms

* * * * *

123.72 PS Form 2976-A, Customs Declaration and Dispatch Note—CP 72

123.721 Sender's Preparation of PS Form 2976-A

[Revise item “o” to read as follows:]

o. Affix PS Form 2976-A according to the class of mail, as follows:

1. For Priority Mail International parcels, with the exception of the flat-rate envelope and small flat-rate box, allow the Postal Service employee to complete PS Form 2976-A as described in 123.722, place the form set inside PS Form 2976-E (plastic envelope), and affix it to the address side of the package.

2. For a Priority Mail International flat-rate envelope, small flat-rate box, or First-Class Mail International item valued at $400 or more, or if you do not want to list the contents on the outside wrapper of a Priority Mail International flat-rate envelope, small flat-rate box, or First-Class Mail International item, affix the upper portion only of PS Form 2976 (green label) (cut on dotted line and discard the lower portion) to the address side of the package, complete PS Form 2976-A, and enclose the form set inside the package.

130 Mailability

* * * * *

134 Valuable Articles

134.1 List of Articles

[Revise the introductory paragraph of 134.1 to read as follows:]

The following valuable articles may be sent only by Registered Mail using First-Class Mail International service, Priority Mail International flat-rate envelope, Priority Mail International small flat-rate box, or as insured Priority Mail International. The articles are not mailable in Express Mail International or ordinary Priority Mail International shipments (see 221.2 and 233):

* * * * *

140 International Mail Categories

141 Definitions

* * * * *

141.4 Priority Mail International

[Convert item “a” and “b” into a first and second paragraph. Revise the first sentence of the first paragraph 141.4 as follows:]

Priority Mail International is governed by the parcels provisions of the Universal Postal Convention with the exception of the flat-rate envelope and small flat-rate box. * * *

[Revise the second paragraph in 141.4b to read as follows:]

The Priority Mail International flat-rate envelope and small flat-rate box provide customers with an economical means of sending correspondence, documents, printed matter, and lightweight merchandise items to foreign destinations. The maximum weight limit is 4 pounds. Registered Mail service is available for the Priority Mail International flat-rate envelope and small flat-rate box. Insurance is not available for the Priority Mail International flat-rate envelope or small flat-rate box.

* * * * *

2 Conditions for Mailing

210 Global Express Guaranteed

* * * * *

212 Postage Prices

212.1 Global Express Guaranteed Service Prices/Groups

[Revise 212.1 as follows:]

See the Individual Country Listings for prices and country groups that offer Global Express Guaranteed.

[Delete Exhibit 212.1 GXG price chart from this section.]

212.2 Commercial Base Prices

212.21 General

[Revise 212.21 by adding a new sentence after the first and before the second sentence as follows:]

* * * Commercial base prices also apply to qualifying end-user customers that pay postage using Information-Based Indicia (IBI) postage meters and transmit customs forms electronically. * * *

212.22 Online Prices

[Revise 212.22 by adding the following language at the end of the first sentence.]

* * * or to qualifying end-user customers who pay postage using Information-Based Indicia (IBI) postage meters and transmit customs forms electronically. * * *

* * * * *

220 Express Mail International

* * * * *

222 Postage

222.1 Prices

222.11 Country Prices

Exhibit 222.11

[Revise Exhibit 222.11 by changing the prices as follows:]

Express Mail International Flat-Rate Envelope

Canada & Mexico | $25.95
All other countries | 27.95

* * * * *

222.14 Online Prices—General

[Revise 222.14 by adding the following language at the end of the paragraph as follows:]

* * * Commercial base prices also apply to qualifying end-user customers that pay postage using Information-Based Indicia (IBI) postage meters and transmit customs forms electronically.

* * * * *

222.142 Online Prices

[Revise 222.142 by adding the following language at the end of the first sentence.]

* * * or for qualifying end-user customers who pay postage using Information-Based Indicia (IBI) postage meters and transmit customs forms electronically. * * *

* * * * *

230 Priority Mail International

231 General

[Revise 231 as follows:]

Priority Mail International is a parcel service with the exception of the flat-rate envelope and the small flat-rate box. Written correspondence having the nature of current and personal correspondence is not permitted in Priority Mail International parcels, but may be sent in the Priority Mail International flat-rate envelope or small flat-rate box.

[Revise the title of 232 as follows:]

232 Priority Mail International Flat-Rate Envelope and Small Flat-Rate Box

232.1 General

[Revise 232.1 as follows:]

All items that may be sent as First-Class Mail International (see 241) may be sent in the Priority Mail International flat-rate envelope or small flat-rate box provided the contents are mailable, they fit securely in the envelope or box, and they are entirely confined within the container with the provided adhesive as the means of closure. The flap must close within the prefabricated fold. Tape may be applied to the flap and seams for closure or to reinforce, provided the design of the container is not enlarged by opening the sides and taping or reconstructing the container in any way. Registered Mail service is available. Insurance is not available.

232.2 Prices

[Revise the text of the first sentence of 232.2 as follows:]

The Priority Mail International flat-rate envelope and small flat-rate box are charged as a flat rate. * * *

Exhibit 232.2

[Revise the title and prices of Exhibit 232.2 as follows:]

Priority Mail International Flat-Rate Envelope and Small Flat-Rate Box

Canada & Mexico | $10.95
All other countries | 12.95

232.3 Weight Limit

[Revise the text of 232.3 as follows.]

The maximum weight for the flat-rate envelope and small flat-rate box is 4 pounds.

232.4 Customs Forms Required

[Revise the text of 232.4 as follows:]

All Priority Mail International flat-rate envelopes and small flat-rate boxes must bear a PS Form 2976 or 2976-A depending on the value and weight of the item.

[Revise the heading of 233 as follows:]

233 Priority Mail International Regular and Large Flat-Rate Boxes

233.1 General

[Revise the text of the first sentence in paragraph one, add a new sentence after the first sentence and revise the first sentence in paragraph two of 233.1 as follows:]

All mailable items that qualify to be sent as Priority Mail International may be sent in the Priority Mail regular and large flat-rate boxes (see 231). Items allowed in the Priority Mail International flat-rate envelope or small flat-rate box are not allowed to be sent in the Priority Mail International regular and large flat-rate boxes. * * *

Regular and large flat-rate boxes may be insured. * * *

* * * * *

233.2 Prices

* * * * *

[Revise title and prices of Exhibit 233.2 as follows:]

Exhibit 233.2

Priority Mail International—Regular and Large Flat-Rate Boxes

International destination | Regular | Large
Canada & Mexico | $25.95 | $32.95
All other countries | 41.95 | 53.95

[Revise “Note” of Exhibit 233.2 as follows:]

Note: Indemnity for items mailed in the regular or large flat-rate boxes are based on the weight and indemnity limits shown in Exhibit 234.4.

233.3 Weight Limit

[Revise 233.3 as follows:]

The weight limit for the regular and large flat-rate box is 20 pounds.

233.4 Customs Forms Required

[Revise 233.4 as follows:]

Each regular or large Priority Mail International flat-rate box must bear a properly completed PS Form 2976-A.

234 Priority Mail International Parcels

* * * * *

234.2 Indemnity

[Revise the first sentence of 234.2 as follows:]

Ordinary—i.e., uninsured—Priority Mail International parcels, except the small flat-rate box, include indemnity coverage against loss, damage, or rifling up to the amounts shown in Exhibit 234.4. * * *

* * * * *

[Revise second “Note” in 234.2 as follows:]

Note: Priority Mail International parcels including the regular and large flat-rate boxes may be insured but not the Priority Mail International flat-rate envelope or small flat-rate box (see 322).

* * * * *

235 Postage

* * * * *

235.2 Prices

* * * * *

235.22 Online Prices

[Revise the first sentence of 235.22 as follows:]

Prices for Priority Mail International transactions conducted on Click-N-Ship, through an authorized PC Postage vendor, or by qualifying end-user customers that pay postage using Information-Based Indicia (IBI) postage meters and transmit customs forms electronically, are 5 percent below retail prices. * * *

* * * * *

236 Weight and Size Limits

236.1 Weight Limits

[Revise items “a” and “b” of 236.2 as follows:]

a. Flat-rate envelope and small flat-rate box: 4 lbs.

b. Regular and large flat-rate boxes: 20 lbs.

* * * * *

237 Mail Preparation

* * * * *

237.4 Packaging

* * * * *

237.45 Customs Forms Required

[Revise 237.45 as follows:]

All Priority Mail International parcels, except the small flat-rate box, must bear PS Form 2976-A.

* * * * *

3 Extra Services

310 Certificate of Mailing

* * * * *

312 Availability

[Revise 312 as follows:]

312.1 Certificate of Mailing—At Time of Purchase

Customers may purchase a certificate of mailing when sending:

a. Postcards

b. Unregistered First-Class Mail International items

c. Free matter for the blind

d. Priority Mail International flat-rate envelopes or small flat-rate boxes

e. Ordinary (uninsured) Priority Mail International parcels including regular and large flat-rate boxes.

312.2 Additional Criteria

To obtain an additional certificate after mailing, the mailer must present the original certificate and an additional certificate endorsed “Duplicate” or a copy showing the original dates of mailing. The additional certificate must be postmarked to show the current date. A certificate of mailing cannot be obtained in combination with Registered Mail items, insured parcels, or bulk mailings of 200 pieces or more that bear a permit imprint.

* * * * *

320 Insurance

321 Description

[Revise first sentence of 321 as follows:]

Insurance is provided against loss, damage, or rifling for Priority Mail International parcels except the small flat-rate box. * * *

322 Availability

[Revise last sentence of 322 as follows:]

* * * Insurance is not available for the Priority Mail International flat-rate envelope or small flat-rate box.

* * * * *

330 Registered Mail

* * * * *

332 Availability

[Revise the first sentence of 332 as follows:]

Customers can purchase Registered Mail service when they send Priority Mail International flat-rate envelopes, small flat-rate boxes, or First-Class Mail International items, postcards, and free matter for the blind. * * *

* * * * *

5 Nonpostal Export Regulations

* * * * *

530 Commodities and Technical Data

* * * * *

532 General Export Licenses

* * * * *

532.2 Restricted Destinations of General Export Licenses

* * * * *

Exhibit 532.2 General License Symbols Not Permitted

* * * * *

[Revise second sentence in first footnote of Exhibit 532.2 as follows:]

* * * For Cuba, the Priority Mail International flat-rate envelope and small flat-rate box (maximum weight: 4 lbs. each) is accepted. * * *

* * * * *

9 Inquiries, Indemnities, and Refunds

* * * * *

920 Inquiries and Claims

921 Inquiries

* * * * *

921.2 Initiating an Inquiry

[Revise the second sentence of 921.2 as follows:]

* * * Inquiries are not accepted for ordinary letters, Priority Mail International flat-rate envelopes, Priority Mail International small flat-rate boxes, or M-bags. * * *

* * * * *

921.5 General Procedures

921.51 Nondelivery

[Revise the last sentence of 921.51 as follows:]

Inquiries are not accepted for Priority Mail International flat-rate envelopes, Priority Mail International small flat-rate boxes, ordinary letters, or M-bags.

* * * * *

Country Price Groups and Weight Limits

* * * * *

[Revise footnotes 1, 3, and 4 only as follows:]

¹ Priority Mail International flat-rate service maximum weight: flat-rate envelope and small flat-rate box, 4 lbs; regular and large flat-rate boxes, 20 lbs.

* * * * *

³ Bolivia: Priority Mail International package services to Bolivia are suspended. The Priority Mail International flat-rate envelope and small flat-rate box (maximum weight: 4 lbs. each) may be used.

⁴ Cuba: Priority Mail International package services to Cuba are not available. The Priority Mail International flat-rate envelope and small flat-rate box (maximum weight: 4 lbs. each) may be used. Dutiable articles may not be mailed to Cuba except gift parcels up to 4 lbs. that must comply with the gift parcel rules published in 15 CFR § 740.12 for general provisions governing sanctions and for comprehensive information about goods and services that may not be imported to or exported from Cuba. Potentially dutiable items may be confiscated upon entering Cuba or returned to sender.

* * * * *

[Revise the Country Price Groups and Weight Limits table for Australia and New Zealand by changing the Express Mail International and Priority Mail International price group number to ‘10’.]

* * * * *

Individual Country Listings

Country Conditions for Mailing

* * * * *

[Make a global change to all countries except Somalia as follows:]

Customs Forms Required (123)

First-Class Mail International items and Priority Mail International flat-rate envelopes and small flat-rate boxes: PS Form 2976 or 2976-A (see 123.61)

* * * * *

Priority Mail International—Flat Rate

[Revise the first line as follows:]

Flat-Rate Envelope or Small Flat-Rate Box: {Placeholder for price depending on individual country.}

* * * * *

[Replace the current price tables in the Individual Country Listings with the following:]

Global Express Guaranteed
Weight not over (lb.) | Price groups: 1 | Price groups: 2 | Price groups: 3 | Price groups: 4 | Price groups: 5 | Price groups: 6 | Price groups: 7 | Price groups: 8
0.5 | $31.95 | $32.95 | $41.95 | $89.95 | $41.95 | $43.95 | $41.95 | $60.95
1 | 50.00 | 54.00 | 59.00 | 106.00 | 67.00 | 68.00 | 54.00 | 76.00
2 | 54.75 | 61.25 | 68.25 | 124.00 | 75.50 | 77.50 | 62.00 | 94.50
3 | 59.50 | 68.50 | 77.50 | 142.00 | 84.00 | 87.00 | 70.00 | 113.00
4 | 64.25 | 75.75 | 86.75 | 160.00 | 92.50 | 96.50 | 78.00 | 131.50
5 | 69.00 | 83.00 | 96.00 | 178.00 | 101.00 | 106.00 | 86.00 | 150.00
6 | 72.75 | 90.25 | 105.25 | 196.00 | 109.50 | 115.50 | 94.00 | 168.50
7 | 76.50 | 97.50 | 114.50 | 214.00 | 118.00 | 125.00 | 102.00 | 187.00
8 | 80.25 | 104.75 | 123.75 | 232.00 | 126.50 | 134.50 | 110.00 | 205.50
9 | 84.00 | 112.00 | 133.00 | 250.00 | 135.00 | 144.00 | 118.00 | 224.00
10 | 87.75 | 119.25 | 142.25 | 268.00 | 143.50 | 153.50 | 126.00 | 242.50
11 | 91.50 | 123.50 | 147.50 | 282.00 | 150.00 | 162.00 | 132.00 | 255.00
12 | 95.25 | 127.75 | 152.75 | 296.00 | 156.50 | 170.50 | 138.00 | 267.50
13 | 99.00 | 132.00 | 158.00 | 310.00 | 163.00 | 179.00 | 144.00 | 280.00
14 | 102.75 | 136.25 | 163.25 | 324.00 | 169.50 | 187.50 | 150.00 | 292.50
15 | 106.50 | 140.50 | 168.50 | 338.00 | 176.00 | 196.00 | 156.00 | 305.00
16 | 110.25 | 144.75 | 173.75 | 352.00 | 182.50 | 204.50 | 162.00 | 317.50
17 | 114.00 | 149.00 | 179.00 | 366.00 | 189.00 | 213.00 | 168.00 | 330.00
18 | 117.75 | 153.25 | 184.25 | 380.00 | 195.50 | 221.50 | 174.00 | 342.50
19 | 121.50 | 157.50 | 189.50 | 394.00 | 202.00 | 230.00 | 180.00 | 355.00
20 | 125.25 | 161.75 | 194.75 | 408.00 | 208.50 | 238.50 | 186.00 | 367.50
21 | 129.00 | 166.00 | 200.00 | 422.00 | 215.00 | 247.00 | 192.00 | 380.00
22 | 132.75 | 170.25 | 205.25 | 436.00 | 221.50 | 255.50 | 198.00 | 392.50
23 | 136.50 | 174.50 | 210.50 | 450.00 | 228.00 | 263.00 | 204.00 | 405.00
24 | 140.25 | 178.75 | 215.75 | 464.00 | 234.50 | 270.50 | 210.00 | 417.50
25 | 144.00 | 183.00 | 221.00 | 478.00 | 241.00 | 278.00 | 216.00 | 430.00
26 | 147.75 | 186.50 | 226.25 | 492.00 | 247.50 | 285.50 | 222.00 | 442.50
27 | 151.50 | 190.00 | 231.50 | 506.00 | 254.00 | 293.00 | 228.00 | 455.00
28 | 155.25 | 193.50 | 236.75 | 520.00 | 260.50 | 300.50 | 234.00 | 467.50
29 | 159.00 | 197.00 | 242.00 | 534.00 | 267.00 | 308.00 | 240.00 | 480.00
30 | 162.75 | 200.50 | 247.25 | 548.00 | 273.50 | 315.50 | 246.00 | 492.50
31 | 166.50 | 204.00 | 252.50 | 562.00 | 280.00 | 323.00 | 252.00 | 505.00
32 | 170.25 | 207.50 | 257.75 | 576.00 | 286.50 | 330.50 | 258.00 | 517.50
33 | 174.00 | 211.00 | 263.00 | 590.00 | 293.00 | 338.00 | 264.00 | 530.00
34 | 177.75 | 214.50 | 268.25 | 604.00 | 299.50 | 345.50 | 270.00 | 542.50
35 | 181.50 | 218.00 | 273.50 | 618.00 | 306.00 | 353.00 | 276.00 | 555.00
36 | 185.25 | 221.50 | 278.75 | 632.00 | 312.50 | 360.50 | 282.00 | 567.50
37 | 189.00 | 225.00 | 284.00 | 646.00 | 319.00 | 368.00 | 288.00 | 580.00
38 | 192.75 | 228.50 | 289.25 | 660.00 | 325.50 | 375.50 | 294.00 | 592.50
39 | 196.50 | 232.00 | 294.50 | 674.00 | 332.00 | 383.00 | 300.00 | 605.00
40 | 200.25 | 235.50 | 299.75 | 688.00 | 338.50 | 390.50 | 306.00 | 617.50
41 | 204.00 | 239.00 | 305.00 | 698.00 | 345.00 | 398.00 | 312.00 | 627.00
42 | 207.75 | 242.50 | 310.25 | 708.00 | 351.50 | 405.50 | 318.00 | 636.50
43 | 211.50 | 246.00 | 315.50 | 718.00 | 358.00 | 413.00 | 324.00 | 646.00
44 | 215.25 | 249.50 | 320.75 | 728.00 | 364.50 | 420.50 | 330.00 | 655.50
45 | 219.00 | 253.00 | 326.00 | 738.00 | 371.00 | 428.00 | 336.00 | 665.00
46 | 222.75 | 256.50 | 331.25 | 748.00 | 377.50 | 435.50 | 342.00 | 674.50
47 | 225.50 | 260.00 | 336.50 | 758.00 | 384.00 | 443.00 | 348.00 | 684.00
48 | 228.25 | 263.50 | 341.75 | 768.00 | 390.50 | 450.50 | 354.00 | 693.50
49 | 231.00 | 267.00 | 347.00 | 778.00 | 397.00 | 458.00 | 360.00 | 703.00
50 | 233.75 | 270.50 | 352.25 | 788.00 | 403.50 | 465.50 | 366.00 | 712.50
51 | 236.50 | 273.25 | 357.50 | 798.00 | 410.00 | 473.00 | 372.00 | 722.00
52 | 239.25 | 276.00 | 362.75 | 808.00 | 416.50 | 480.50 | 378.00 | 731.50
53 | 242.00 | 278.75 | 368.00 | 818.00 | 423.00 | 488.00 | 384.00 | 741.00
54 | 244.75 | 281.50 | 373.25 | 828.00 | 429.50 | 495.50 | 390.00 | 750.50
55 | 247.50 | 284.25 | 378.50 | 838.00 | 436.00 | 503.00 | 396.00 | 760.00
56 | 250.25 | 287.00 | 383.75 | 848.00 | 442.50 | 510.50 | 402.00 | 769.50
57 | 253.00 | 289.75 | 389.00 | 858.00 | 449.00 | 518.00 | 408.00 | 779.00
58 | 255.75 | 292.50 | 394.25 | 868.00 | 455.50 | 525.50 | 414.00 | 788.50
59 | 258.50 | 295.25 | 399.50 | 878.00 | 462.00 | 533.00 | 420.00 | 798.00
60 | 261.25 | 298.00 | 404.75 | 888.00 | 468.50 | 540.50 | 426.00 | 807.50
61 | 264.00 | 300.75 | 410.00 | 898.00 | 475.00 | 548.00 | 432.00 | 817.00
62 | 266.75 | 303.50 | 415.25 | 908.00 | 480.50 | 555.50 | 438.00 | 826.50
63 | 269.50 | 306.25 | 420.50 | 918.00 | 486.00 | 563.00 | 444.00 | 836.00
64 | 272.25 | 309.00 | 425.75 | 928.00 | 491.50 | 570.50 | 450.00 | 845.50
65 | 275.00 | 311.75 | 431.00 | 938.00 | 497.00 | 578.00 | 456.00 | 855.00
66 | 277.75 | 314.50 | 436.25 | 948.00 | 502.50 | 585.50 | 462.00 | 864.50
67 | 280.50 | 317.25 | 441.50 | 958.00 | 508.00 | 593.00 | 468.00 | 874.00
68 | 283.25 | 320.00 | 446.75 | 968.00 | 513.50 | 600.50 | 474.00 | 883.50
69 | 286.00 | 322.75 | 452.00 | 978.00 | 519.00 | 608.00 | 480.00 | 893.00
70 | 288.75 | 325.50 | 457.25 | 988.00 | 524.50 | 615.50 | 486.00 | 902.50

Express Mail International
Weight not over (lb.) | Price groups: 1 | Price groups: 2 | Price groups: 3 | Price groups: 4 | Price groups: 5 | Price groups: 6 | Price groups: 7 | Price groups: 8 | Price groups: 9 | Price groups: 10
Flat-Rate Envelope | $25.95 | $25.95 | $27.95 | $27.95 | $27.95 | $27.95 | $27.95 | $27.95 | $27.95 | $27.95
0.5 | 25.95 | 25.95 | 27.95 | 27.95 | 27.95 | 27.95 | 27.95 | 27.95 | 27.95 | 27.95
1 | 30.00 | 29.50 | 31.50 | 31.50 | 32.50 | 31.50 | 34.00 | 33.50 | 32.50 | 32.50
2 | 33.50 | 33.25 | 36.25 | 35.75 | 37.00 | 35.75 | 38.75 | 38.50 | 37.00 | 37.75
3 | 37.00 | 37.00 | 41.00 | 40.00 | 41.50 | 40.00 | 43.50 | 43.50 | 41.50 | 43.00
4 | 40.50 | 40.75 | 45.75 | 44.25 | 46.00 | 44.25 | 48.25 | 48.50 | 46.00 | 48.25
5 | 44.00 | 44.50 | 50.50 | 48.50 | 50.50 | 48.50 | 53.00 | 53.50 | 50.50 | 54.00
6 | 47.25 | 48.25 | 55.25 | 52.25 | 54.75 | 53.75 | 58.25 | 58.50 | 55.75 | 59.75
7 | 50.50 | 52.00 | 60.00 | 56.00 | 59.00 | 59.00 | 63.50 | 63.50 | 61.00 | 65.50
8 | 53.75 | 55.75 | 64.75 | 59.75 | 63.25 | 64.25 | 68.75 | 68.50 | 66.25 | 71.25
9 | 57.00 | 59.50 | 69.50 | 63.50 | 67.50 | 69.50 | 74.00 | 73.50 | 71.50 | 77.00
10 | 60.25 | 63.25 | 74.25 | 67.25 | 71.75 | 74.75 | 79.25 | 78.50 | 76.75 | 82.75
11 | 63.75 | 66.00 | 79.50 | 71.50 | 76.00 | 80.50 | 85.00 | 84.25 | 82.00 | 88.50
12 | 67.25 | 68.75 | 84.75 | 75.75 | 80.25 | 86.25 | 90.75 | 90.00 | 87.25 | 94.25
13 | 70.75 | 71.50 | 90.00 | 80.00 | 84.50 | 92.00 | 96.50 | 95.75 | 92.50 | 100.00
14 | 74.25 | 74.25 | 95.25 | 84.25 | 88.75 | 97.75 | 102.25 | 101.50 | 97.75 | 105.75
15 | 77.75 | 77.00 | 100.50 | 88.50 | 93.00 | 103.50 | 108.00 | 107.25 | 103.00 | 111.50
16 | 81.25 | 79.75 | 106.25 | 92.75 | 97.25 | 109.25 | 113.75 | 113.00 | 108.25 | 117.75
17 | 84.75 | 82.50 | 112.00 | 97.00 | 101.50 | 115.00 | 119.50 | 118.75 | 113.50 | 124.00
18 | 88.25 | 85.25 | 117.75 | 101.25 | 105.75 | 120.75 | 125.25 | 124.50 | 118.75 | 130.25
19 | 91.75 | 88.00 | 123.50 | 105.50 | 110.00 | 126.50 | 131.00 | 130.25 | 124.00 | 136.50
20 | 95.25 | 90.75 | 129.25 | 109.75 | 114.25 | 132.25 | 136.75 | 136.00 | 129.25 | 142.75
21 | 98.75 | 93.50 | 135.00 | 114.00 | 118.50 | 138.00 | 142.50 | 141.75 | 134.50 | 149.00
22 | 102.25 | 96.25 | 140.75 | 118.25 | 122.75 | 143.75 | 148.25 | 147.50 | 139.75 | 155.25
23 | 105.75 | 99.00 | 146.50 | 122.50 | 127.00 | 149.50 | 154.00 | 153.25 | 145.00 | 161.50
24 | 109.25 | 101.75 | 152.25 | 126.75 | 131.25 | 155.25 | 159.75 | 159.00 | 150.25 | 167.75
25 | 112.75 | 104.50 | 158.00 | 131.00 | 135.50 | 161.00 | 165.50 | 164.75 | 155.50 | 174.00
26 | 116.25 | 107.25 | 163.75 | 135.25 | 139.75 | 166.75 | 171.25 | 170.50 | 160.75 | 180.25
27 | 119.75 | 110.00 | 169.50 | 139.50 | 144.00 | 172.50 | 177.00 | 176.25 | 166.00 | 186.50
28 | 123.25 | 112.75 | 175.25 | 143.75 | 148.25 | 178.25 | 182.75 | 182.00 | 171.25 | 192.75
29 | 126.75 | 115.50 | 181.00 | 148.00 | 152.50 | 184.00 | 188.50 | 187.75 | 176.50 | 199.00
30 | 130.25 | 118.25 | 186.75 | 152.25 | 156.75 | 189.75 | 194.25 | 193.50 | 181.75 | 205.25
31 | 133.75 | 121.00 | 192.50 | 156.50 | 161.00 | 195.50 | 200.00 | 199.25 | 187.00 | 211.50
32 | 137.25 | 123.75 | 198.25 | 160.75 | 165.25 | 201.25 | 205.75 | 205.00 | 192.25 | 217.75
33 | 140.75 | 126.50 | 204.00 | 165.00 | 169.50 | 207.00 | 211.50 | 210.75 | 197.50 | 224.00
34 | 144.25 | 129.25 | 209.75 | 169.25 | 173.75 | 212.75 | 217.25 | 216.50 | 202.75 | 230.25
35 | 147.75 | 132.00 | 215.50 | 173.50 | 178.00 | 218.50 | 223.00 | 222.25 | 208.00 | 236.50
36 | 151.25 | 134.75 | 221.25 | 177.75 | 182.25 | 224.25 | 228.75 | 228.00 | 213.25 | 242.75
37 | 154.75 | 137.50 | 227.00 | 182.00 | 186.50 | 230.00 | 234.50 | 233.75 | 218.50 | 249.00
38 | 158.25 | 140.25 | 232.75 | 186.25 | 190.75 | 235.75 | 240.25 | 239.50 | 223.75 | 255.25
39 | 161.75 | 143.00 | 238.50 | 190.50 | 195.00 | 241.50 | 246.00 | 245.25 | 229.00 | 261.50
40 | 165.25 | 145.75 | 244.25 | 194.75 | 199.25 | 247.25 | 251.75 | 251.00 | 234.25 | 267.75
41 | 168.75 | 148.50 | 250.00 | 199.00 | 203.50 | 252.50 | 257.50 | 256.75 | 239.50 | 274.00
42 | 172.25 | 151.25 | 255.75 | 203.25 | 207.75 | 257.75 | 263.25 | 262.50 | 244.75 | 280.25
43 | 175.75 | 154.00 | 261.50 | 207.50 | 212.00 | 263.00 | 269.00 | 268.25 | 250.00 | 286.50
44 | 179.25 | 156.75 | 267.25 | 211.75 | 216.25 | 268.25 | 274.75 | 274.00 | 255.25 | 292.75
45 | 182.75 |  | 273.00 | 216.00 | 220.50 | 273.50 | 280.50 | 279.75 | 260.50 | 299.00
46 | 186.25 |  | 278.75 | 220.25 | 224.75 | 278.75 | 286.25 | 285.50 | 265.75 | 305.25
47 | 189.75 |  | 284.50 | 224.50 | 229.00 | 284.00 | 292.00 | 291.25 | 271.00 | 311.50
48 | 193.25 |  | 290.25 | 228.75 | 233.25 | 289.25 | 297.75 | 297.00 | 276.25 | 317.75
49 | 196.75 |  | 296.00 | 233.00 | 237.50 | 294.50 | 303.50 | 302.75 | 281.50 | 324.00
50 | 200.25 |  | 301.75 | 237.25 | 241.75 | 299.75 | 309.25 | 308.50 | 286.75 | 330.25
51 | 203.75 |  | 307.50 | 241.50 | 246.00 | 305.00 | 315.00 | 314.25 | 292.00 | 336.50
52 | 207.25 |  | 313.25 | 245.75 | 250.25 | 310.25 | 320.75 | 320.00 | 297.25 | 342.75
53 | 210.75 |  | 319.00 | 250.00 | 254.50 | 315.50 | 326.50 | 325.75 | 302.50 | 349.00
54 | 214.25 |  | 324.75 | 254.25 | 258.75 | 320.75 | 332.25 | 331.50 | 307.75 | 355.25
55 | 217.75 |  | 330.50 | 258.50 | 263.00 | 326.00 | 338.00 | 337.25 | 313.00 | 361.50
56 | 221.25 |  | 336.25 | 262.75 | 267.25 | 331.25 | 343.75 | 343.00 | 318.25 | 367.75
57 | 224.75 |  | 342.00 | 267.00 | 271.50 | 336.50 | 349.50 | 348.75 | 323.50 | 374.00
58 | 228.25 |  | 347.75 | 271.25 | 275.75 | 341.75 | 355.25 | 354.50 | 328.75 | 380.25
59 | 231.75 |  | 353.50 | 275.50 | 280.00 | 347.00 | 361.00 | 360.25 | 334.00 | 386.50
60 | 235.25 |  | 359.25 | 279.75 | 284.25 | 352.25 | 366.75 | 366.00 | 339.25 | 392.75
61 | 238.75 |  | 365.00 | 284.00 | 288.50 | 357.50 | 372.50 | 371.75 | 344.50 | 399.00
62 | 242.25 |  | 370.75 | 288.25 | 292.75 | 362.75 | 378.25 | 377.50 | 349.75 | 405.25
63 | 245.75 |  | 376.50 | 292.50 | 297.00 | 368.00 | 384.00 | 383.25 | 355.00 | 411.50
64 | 249.25 |  | 382.25 | 296.75 | 301.25 | 373.25 | 389.75 | 389.00 | 360.25 | 417.75
65 | 252.75 |  | 388.00 | 301.00 | 305.50 | 378.50 | 395.50 | 394.75 | 365.50 | 424.00
66 | 256.25 |  | 393.75 | 305.25 | 309.75 | 383.75 | 401.25 | 400.50 | 370.75 | 430.25
67 |  |  | 399.50 | 309.50 | 314.00 | 389.00 | 407.00 | 406.25 | 376.00 |
68 |  |  | 405.25 | 313.75 | 318.25 | 394.25 | 412.75 | 412.00 | 381.25 |
69 |  |  | 411.00 | 318.00 | 322.50 | 399.50 | 418.50 | 417.75 | 386.50 |
70 |  |  | 416.75 | 322.25 | 326.75 | 404.75 | 424.25 | 423.50 | 391.75 |

Priority Mail International
Weight not over (lb.) | Price groups: 1 | Price groups: 2 | Price groups: 3 | Price groups: 4 | Price groups: 5 | Price groups: 6 | Price groups: 7 | Price groups: 8 | Price groups: 9 | Price groups: 10
Flat-Rate Envelope | $10.95 | $10.95 | $12.95 | $12.95 | $12.95 | $12.95 | $12.95 | $12.95 | $12.95 | $12.95
Small Flat-Rate Box | 10.95 | 10.95 | 12.95 | 12.95 | 12.95 | 12.95 | 12.95 | 12.95 | 12.95 | 12.95
Regular Flat-Rate Box | 25.95 | 25.95 | 41.95 | 41.95 | 41.95 | 41.95 | 41.95 | 41.95 | 41.95 | 41.95
Large Flat-Rate Box | 32.95 | 32.95 | 53.95 | 53.95 | 53.95 | 53.95 | 53.95 | 53.95 | 53.95 | 53.95
1 | 19.00 | 19.00 | 25.00 | 23.50 | 26.50 | 25.00 | 24.00 | 23.00 | 23.00 | 26.50
2 | 20.75 | 22.75 | 29.25 | 27.25 | 29.75 | 29.25 | 28.50 | 27.25 | 26.75 | 31.35
3 | 22.50 | 26.50 | 33.50 | 31.00 | 33.00 | 33.50 | 33.00 | 31.50 | 30.50 | 36.20
4 | 24.25 | 30.25 | 37.75 | 34.75 | 36.25 | 37.75 | 37.50 | 35.75 | 34.25 | 41.05
5 | 26.00 | 34.00 | 42.00 | 38.50 | 39.50 | 42.00 | 42.00 | 40.00 | 38.00 | 45.90
6 | 27.75 | 36.75 | 45.75 | 42.25 | 42.50 | 47.25 | 46.50 | 44.25 | 40.75 | 51.05
7 | 29.50 | 39.50 | 49.50 | 46.00 | 45.50 | 52.50 | 51.00 | 48.50 | 43.50 | 56.20
8 | 31.25 | 42.25 | 53.25 | 49.75 | 48.50 | 57.75 | 55.50 | 52.75 | 46.25 | 61.35
9 | 33.00 | 45.00 | 57.00 | 53.50 | 51.50 | 63.00 | 60.00 | 57.00 | 49.00 | 66.50
10 | 34.75 | 47.75 | 60.75 | 57.25 | 54.50 | 68.25 | 64.50 | 61.25 | 51.75 | 71.65
11 | 36.50 | 50.00 | 64.50 | 61.00 | 57.50 | 73.50 | 69.50 | 66.00 | 55.50 | 76.80
12 | 38.25 | 52.25 | 68.25 | 64.75 | 60.50 | 78.75 | 74.50 | 70.75 | 59.25 | 81.95
13 | 40.00 | 54.50 | 72.00 | 68.50 | 63.50 | 84.00 | 79.50 | 75.50 | 63.00 | 87.10
14 | 41.75 | 56.75 | 75.75 | 72.25 | 66.50 | 89.25 | 84.50 | 80.25 | 66.75 | 92.25
15 | 43.50 | 59.00 | 79.50 | 76.00 | 69.50 | 94.50 | 89.50 | 85.00 | 70.50 | 97.40
16 | 45.25 | 61.25 | 83.25 | 79.75 | 72.50 | 99.75 | 94.50 | 89.75 | 74.25 | 102.55
17 | 47.00 | 63.50 | 87.00 | 83.50 | 75.50 | 105.00 | 99.50 | 94.50 | 78.00 | 107.70
18 | 48.75 | 65.75 | 90.75 | 87.25 | 78.50 | 110.25 | 104.50 | 99.25 | 81.75 | 112.85
19 | 50.50 | 68.00 | 94.50 | 91.00 | 81.50 | 115.50 | 109.50 | 104.00 | 85.50 | 118.00
20 | 52.25 | 70.25 | 98.25 | 94.75 | 84.50 | 120.75 | 114.50 | 108.75 | 89.25 | 123.15
21 | 54.00 | 72.50 | 102.00 | 98.50 | 87.50 | 126.00 | 119.50 | 113.50 | 93.00 | 128.30
22 | 55.75 | 74.75 | 105.75 | 102.25 | 90.50 | 131.25 | 124.50 | 118.25 | 96.75 | 133.45
23 | 57.50 | 77.00 | 109.50 | 106.00 | 93.50 | 136.50 | 129.50 | 123.00 | 100.50 | 138.60
24 | 59.25 | 79.25 | 113.25 | 109.75 | 96.50 | 141.75 | 134.50 | 127.75 | 104.25 | 143.75
25 | 61.00 | 81.50 | 117.00 | 113.50 | 99.50 | 147.00 | 139.50 | 132.50 | 108.00 | 148.90
26 | 62.75 | 83.75 | 120.75 | 117.25 | 102.50 | 152.25 | 144.50 | 137.25 | 111.75 | 154.05
27 | 64.50 | 86.00 | 124.50 | 121.00 | 105.50 | 157.50 | 149.50 | 142.00 | 115.50 | 159.20
28 | 66.25 | 88.25 | 128.25 | 124.75 | 108.50 | 162.75 | 154.50 | 146.75 | 119.25 | 164.35
29 | 68.00 | 90.50 | 132.00 | 128.50 | 111.50 | 168.00 | 159.50 | 151.50 | 123.00 | 169.50
30 | 69.75 | 92.75 | 135.75 | 132.25 | 114.50 | 173.25 | 164.50 | 156.25 | 126.75 | 174.65
31 | 71.50 | 95.00 | 139.50 | 136.00 | 117.50 | 178.50 | 169.50 | 161.00 | 130.50 | 179.80
32 | 73.25 | 97.25 | 143.25 | 139.75 | 120.50 | 183.75 | 174.50 | 165.75 | 134.25 | 184.95
33 | 75.00 | 99.50 | 147.00 | 143.50 | 123.50 | 189.00 | 179.50 | 170.50 | 138.00 | 190.10
34 | 76.75 | 101.75 | 150.75 | 147.25 | 126.50 | 194.25 | 184.50 | 175.25 | 141.75 | 195.25
35 | 78.50 | 104.00 | 154.50 | 151.00 | 129.50 | 199.50 | 189.50 | 180.00 | 145.50 | 200.40
36 | 80.25 | 106.25 | 158.25 | 154.75 | 132.50 | 204.75 | 194.50 | 184.75 | 149.25 | 205.55
37 | 82.00 | 108.50 | 162.00 | 158.50 | 135.50 | 210.00 | 199.50 | 189.50 | 153.00 | 210.70
38 | 83.75 | 110.75 | 165.75 | 162.25 | 138.50 | 215.25 | 204.50 | 194.25 | 156.75 | 215.85
39 | 85.50 | 113.00 | 169.50 | 166.00 | 141.50 | 220.50 | 209.50 | 199.00 | 160.50 | 221.00
40 | 87.25 | 115.25 | 173.25 | 169.75 | 144.50 | 225.75 | 214.50 | 203.75 | 164.25 | 226.15
41 | 89.00 | 117.50 | 177.00 | 173.50 | 147.50 | 231.00 | 219.50 | 208.50 | 168.00 | 231.30
42 | 90.75 | 119.75 | 180.75 | 177.25 | 150.50 | 236.25 | 224.50 | 213.25 | 171.75 | 236.45
43 | 92.50 | 122.00 | 184.50 | 181.00 | 153.50 | 241.50 | 229.50 | 218.00 | 175.50 | 241.60
44 | 94.25 | 124.25 | 188.25 | 184.75 | 156.50 | 246.75 | 234.50 | 222.75 | 179.25 | 246.75
45 | 96.00 |  | 192.00 | 188.50 | 159.50 | 252.00 | 239.50 | 227.50 | 183.00 | 251.90
46 | 97.75 |  | 195.75 | 192.25 | 162.50 | 257.25 | 244.50 | 232.25 | 186.75 | 257.05
47 | 99.50 |  | 199.50 | 196.00 | 165.50 | 262.50 | 249.50 | 237.00 | 190.50 | 262.20
48 | 101.25 |  | 203.25 | 199.75 | 168.50 | 267.75 | 254.50 | 241.75 | 194.25 | 267.35
49 | 103.00 |  | 207.00 | 203.50 | 171.50 | 273.00 | 259.50 | 246.50 | 198.00 | 272.50
50 | 104.75 |  | 210.75 | 207.25 | 174.50 | 278.25 | 264.50 | 251.25 | 201.75 | 277.65
51 | 106.50 |  | 214.50 | 211.00 | 177.50 | 283.50 | 269.50 | 256.00 | 205.50 | 282.80
52 | 108.25 |  | 218.25 | 214.75 | 180.50 | 288.75 | 274.50 | 260.75 | 209.25 | 287.95
53 | 110.00 |  | 222.00 | 218.50 | 183.50 | 294.00 | 279.50 | 265.50 | 213.00 | 293.10
54 | 111.75 |  | 225.75 | 222.25 | 186.50 | 299.25 | 284.50 | 270.25 | 216.75 | 298.25
55 | 113.50 |  | 229.50 | 226.00 | 189.50 | 304.50 | 289.50 | 275.00 | 220.50 | 303.40
56 | 115.25 |  | 233.25 | 229.75 | 192.50 | 309.75 | 294.50 | 279.75 | 224.25 | 308.55
57 | 117.00 |  | 237.00 | 233.50 | 195.50 | 315.00 | 299.50 | 284.50 | 228.00 | 313.70
58 | 118.75 |  | 240.75 | 237.25 | 198.50 | 320.25 | 304.50 | 289.25 | 231.75 | 318.85
59 | 120.50 |  | 244.50 | 241.00 | 201.50 | 325.50 | 309.50 | 294.00 | 235.50 | 324.00
60 | 122.25 |  | 248.25 | 244.75 | 204.50 | 330.75 | 314.50 | 298.75 | 239.25 | 329.15
61 | 124.00 |  | 252.00 | 248.50 | 207.50 | 336.00 | 319.50 | 303.50 | 243.00 | 334.30
62 | 125.75 |  | 255.75 | 252.25 | 210.50 | 341.25 | 324.50 | 308.25 | 246.75 | 339.45
63 | 127.50 |  | 259.50 | 256.00 | 213.50 | 346.50 | 329.50 | 313.00 | 250.50 | 344.60
64 | 129.25 |  | 263.25 | 259.75 | 216.50 | 351.75 | 334.50 | 317.75 | 254.25 | 349.75
65 | 131.00 |  | 267.00 | 263.50 | 219.50 | 357.00 | 339.50 | 322.50 | 258.00 | 354.90
66 | 132.75 |  | 270.75 | 267.25 | 222.50 | 362.25 | 344.50 | 327.25 | 261.75 | 360.05
67 |  |  | 274.50 | 271.00 | 225.50 | 367.50 | 349.50 | 332.00 | 265.50 |
68 |  |  | 278.25 | 274.75 | 228.50 | 372.75 | 354.50 | 336.75 | 269.25 |
69 |  |  | 282.00 | 278.50 | 231.50 | 378.00 | 359.50 | 341.50 | 273.00 |
70 |  |  | 285.75 | 282.25 | 234.50 | 383.25 | 364.50 | 346.25 | 276.75 |

Airmail M-Bag Prices
Price group | Weight not over 11 lbs. | Additional per lb.
1 | $26.95 | $2.45
2 | 28.60 | 2.60
3 | 55.00 | 5.00
4 | 46.20 | 4.20
5 | 35.75 | 3.25
6 | 56.10 | 5.10
7 | 46.75 | 4.25
8 | 46.75 | 4.25
9 | 44.00 | 4.00

Neva R. Watson,
Attorney, Legislative.

[FR Doc. E9-3960 Filed 2-24-09; 8:45 am]

BILLING CODE 7710-12-P